INTERNATIONAL TRADE COMMISSION

[Investigation Nos. 731-TA-1138 and 1139 (Preliminary)]

Aminotrimethylenephosphonic Acid (ATMP) and 1-Hydroxyethylidene-1,1-Diphosphonic Acid (HEDP) From China and India

AGENCY: United States International Trade Commission.

ACTION: Notice of withdrawal of petition in antidumping investigations.

SUMMARY: On January 17, 2008, the Department of Commerce and the Commission received a letter from petitioner in the subject investigations, Compass Chemical International LLC, Huntsville, TX, withdrawing its petition. Commerce has not initiated investigations as provided for in section 732(c) of the Tariff Act of 1930 (19 U.S.C. 1673a(c)). Accordingly, the Commission gives notice that its antidumping investigations concerning ATMP and HEDP from China and India (investigation Nos. 731-TA-1138 and 1139 (Preliminary)) are discontinued.

DATES: Effective Date: January 17, 2008

FOR FURTHER INFORMATION CONTACT: Christopher J. Cassise (202-708-5408), Office of Investigations, U.S. International Trade Commission, 500 E Street SW., Washington, DC 20436. Hearing-impaired individuals are advised that information on this matter can be obtained by contacting the Commission's TDD terminal on 202-205-1810. Persons with mobility impairments who will need special assistance in gaining access to the Commission should contact the Office of the Secretary at 202-205-2000. General information concerning the Commission may also be obtained by accessing its Internet server (http://www.usitc.gov). The public record for these investigations may be viewed on the Commission's electronic docket (EDIS) at http://edis.usitc.gov.

Issued: January 22, 2008.
By order of the Commission.
Marilyn R. Abbott,
Secretary to the Commission.

[FR Doc. E8-1520 Filed 1-28-08; 8:45 am]

BILLING CODE 7020-02-P